DEPARTMENT OF DEFENSE

Department of the Army

Intent To Grant an Exclusive License for a U.S. Government-Owned Invention

AGENCY: Department of the Army, DoD.

ACTION: Notice.

SUMMARY: In accordance with 35 U.S.C. 209(e), and 37 CFR 404.7(a)(1)(i), announcement is made of the intent to grant an exclusive, revocable license, to U.S. Patent No. 6,254,873, issued July 3, 2001, entitled “Inactivated Dengue Virus Vaccine,” for the field of use involving any prophylactic and/or therapeutic purified inactivated vaccine against Dengue virus for human use. The intended licensee is GlaxoSmithKline Bio, with its principal place of business at 89 Rue de l'Institut, 1330 Rixensart, Belgium.

ADDRESSES: Commander, U.S. Army Medical Research and Materiel Command, ATTN: Command Judge Advocate, MCMR-JA, 504 Scott Street, Fort Detrick, Frederick, MD 21702-5012.

FOR FURTHER INFORMATION CONTACT: For licensing issues, Dr. Paul Mele, Office of Research and Technology Applications (ORTA), (301) 619-6664. For patent issues, Ms. Elizabeth Arwine, Patent Attorney, (301) 619-7808, both at telefax (301) 619-5034.

SUPPLEMENTARY INFORMATION: Anyone wishing to object to the grant of this license can file written objections along with supporting evidence, if any, within 15 days from the date of this publication. Written objections are to be filed with the Command Judge Advocate (see ADDRESSES).

Brenda S. Bowen,
Army Federal Register Liaison Officer.

[FR Doc. 2011-2487 Filed 2-3-11; 8:45 am]

BILLING CODE 3710-08-P